ENVIRONMENTAL PROTECTION AGENCY

[ER-FRL-6667-4]

Environmental Impacts Statements; Notice of Availability

Responsible Agency: Office of Federal Activities, General Information (202) 564-7167 or http://www.epa.gov/compliance/nepa/.

Weekly receipt of Environmental Impact Statements

Filed 09/06/2005 Through 09/09/2005.

Pursuant to 40 CFR 1506.9.

EIS No. 20050372, Final EIS, AFS, AZ, Pickett Lake and Padre Canyon Allotments Cattle Grazing Management, Authorization and Implementation, Coconino National Forest, Mormon Lake Ranger District, Coconino County, AZ, Wait Period Ends: 10/17/2005, Contact: Katherine Sanchez Meador 928-526-0866.

EIS No. 20050373, Final EIS, COE, MO, Howard Bend Floodplain Area Study, Improvements for Future Land, Future Road, and Stormwater Management, Missouri River Flood Developments, U.S. Army COE Section 10 and 404 Permits, St. Louis County, MO, Wait Period Ends: 10/17/2005, Contact: Danny McClendon 314-331-8574.

EIS No. 20050374, Draft EIS, BLM, CA, Ukiah Resource Management Plan, Implementation, Several Counties, CA, Comment Period Ends: 12/15/2005, Contact: Eli Ilano 916-978-4427.

EIS No. 20050375, Draft Supplement, FHW, TN, TN-397 (Mack Hatcher Parkway Extension) Construction from US-31 (TN-6, Columbia Avenue) South of Franklin to US-341 (TN-106, Hillsboro Road) North of Franklin, Additional Information on the Build Alternative (Alternative G), Williamson County and City of Franklin, TN , Comment Period Ends: 10/31/2005, Contact: Walter Boyd 615-781-5774.

EIS No. 20050376, Final EIS, COE, TX, Cedar Bayou Navigation Chanel (CBNC.) Improvement Project, Implementation, Near Baytown in Harris and Chambers Counties, TX, Wait Period Ends: 10/17/2005, Contact: Dr. Terry Roberts 409-766-3035.

EIS No. 20050377, Draft EIS, COE, NY, Montuak Point Storm Damage Reduction Project, Proposed Reinforcement of an Existing Stone Revetment Wall, Suffolk County, NY, Comment Period Ends: 10/31/2005 Contact: Dr. Christopher Ricciardi 917-790-8630.

EIS No. 20050378, Draft EIS, COE, NJ, Liberty State Park Ecosystem Restoration Project, Hudson Raritan Estuary Study, To Address the Adverse Impacts Associated with Past Filling Activities, Port Authority of New York and New Jersey, Jersey City, Hudson County, NJ , Comment Period Ends: 10/24/2005, Contact: Robert Will 917-790-8635. Revision to FR Notice Published on 9/16/2005: Due to an Administrative Error by the U.S. Army COE the above Draft EIS was not properly filed with the U.S. EPA. COE has confirmed that distribution of the Draft EIS was made available to all Federal Agencies and interested parties for the 45-day review period that will end on 10/24/2005.

Amended Notices

EIS No. 20050291, Final EIS, AFS, CO, Gold Camp Road Plan, Develop a Feasible Plan to Manage the Operation of Tunnel #3 and the 8.5 mile Road Segment, Pike National Forest, Pikes Peak Ranger District, Colorado Springs, El Paso County, CO, Wait Period Ends: 11/07/2005, Contact: Frank Landis 719-477-4203. Revision to FR Notice Published on 7/22/2005. Refiling of Final EIS Per Agencies Request, the Wait Period will End on 11/07/2005.

EIS No. 20050292, Draft EIS, USA, HI, Makua Military Reservation (MMR) Project, Proposed Military Training Activities, 25th Infantry Division (Light) and U.S. Army, HI, Comment Period Ends: 10/06/2005, Contact: Gary Shirakata 808-438-0772. Revision to FR Notice Published on 7/22/2005. Extending the Comment Period from 9/21/2005 to 10/06/2005.

EIS No. 20050298, Draft EIS, AFS, UT, West Bear Vegetation Management Project, Timber Harvesting, Prescribed Burning, Roads Construction, Township 1 North, Range 9 East, Salt Lake Principle Meridian, Evanston Ranger District, Wasatch-Cache National Forest, Summit County, UT, Comment Period Ends: 09/30/2005, Contact: Larry Johnson 307-789-3194. Revision of FR Notice Published on 7/22/2005. Extending the Comment Period from 9/06/2005 to 9/30/2005.

EIS No. 20050351, Draft EIS, SFW, CA, East Contra Costa County Habitat Conservation Plan and Natural Community Conservation Plan, Implementation, Incidental Take Permit, Cities of Brentwood, Clayton, Oakley and Pittsburg, Contra Costa County, CA, Comment Period Ends: 12/01/2005, Contact: Sheila Larsen 916-444-6600. Revision to FR Notice Published on 9/2/2005. Comment Period Extended from 10/17/2005 to 12/01/2005.

Dated: September 13, 2005.
Robert W. Hargrove,
Director, NEPA Compliance Division, Office of Federal Activities.

[FR Doc. 05-18429 Filed 9-15-05; 8:45 am]

BILLING CODE 6560-50-P